DEPARTMENT OF ENERGY

Federal Energy Regulatory Commission

[Docket No. ER00-2126-000]

Central Maine Power Company; Notice of Filing

April 18, 2000.

Take notice that on April 5, 2000, Central Maine Power Company (CMP), tendered for filing a service agreement for Non-Firm Local Point-to-Point Transmission Service entered into with Enron Energy Services, Inc. Service will be provided pursuant to CMP's Open Access Transmission Tariff, designated rate schedule CMP-FERC Electric, Original Volume No. 3, as supplemented.

CMP respectfully requests that the Commission accept this Service Agreement for filing and requests waiver of the Commission's notice requirements to permit service under the agreement to become effective as of April 1, 2000.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 26, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-10061 Filed 4-21-00; 8:45 am]

BILLING CODE 6717-01-M